DEPARTMENT OF DEFENSE

Department of the Navy

Notice of Availability of Government-Owned Inventions; Available for Licensing

AGENCY: Department of the Navy, DOD.

ACTION: Notice.

SUMMARY: The inventions listed below are assigned to the United States Government as represented by the Secretary of the Navy and are available for licensing by the Department of the Navy.

The following patents are available for licensing:

U.S. Patent Number 6,338,456: LANDING IMPACT ABSORBING DEPLOYMENT SYSTEM FOR AIRCRAFT WITH DAMAGED LANDING GEAR. ABSTRACT: Inflation of impact absorbing bags is effected in time delayed relation to selective jettisoning of damaged landing gear on a helicopter prior to landing for replacement of the landing gear by the bags, without puncture thereof by the landing gear being jettisoned. U.S. Patent Number 6,371,410: EMERGENCY LANDING IMPACT ABSORBING SYSTEM FOR AIRCRAFT. ABSTRACT: Inflation of impact absorbing bags is effected on a portable platform positioned on an emergency landing zone after jettisoning of damaged landing gear from a helicopter fuselage. The impact absorbing bags when inflated form a cradle shape conforming to the bottom of the helicopter fuselage. U.S. Patent Number 6,386,830: QUIET AND EFFICIENT HIGH-PRESSURE FAN ASSEMBLY. ABSTRACT: A high-pressure vane-axial fan assembly is provided. A rotor assembly has a plurality of rotor blades disposed circumferentially around and extending radially outward from a hub. Each rotor blade has an airfoil cross-section and is constructed to define a straight-ruled leading edge that extends outward from the hub. The rotor blade is rotated along its span relative to the straight-ruled leading edge. The plurality of rotor blades defines a solidity of greater than 1. A stator assembly has a plurality of stator vanes disposed circumferentially around and extending radially from the frame. There are a lesser number of stator vanes than rotor blades. The stator assembly is positioned adjacent the rotor assembly such that an axial gap is defined between the trailing edge of the stator vanes. The axial gap increases with radial distance from the hub as defined by the shape of the trailing edge of the rotor blades and the shape of the leading edge of the stator vanes. The axial gap is a minimum of the rotor blade's axial chord length along a central portion thereof. U.S. Patent Number 6,382,912: CENTRIFUGAL COMPRESSOR WITH VANELESS DIFFUSER. ABSTRACT: A centrifugal compressor or pump has a vaneless diffuser within which a radially extending passage is formed between a fixed plate surface and a profile contoured shroud surface establishing a pinch point location of minimum passage area intermediate inlet and outlet ends of the diffuser passage. Convergent and divergent flow portions of the diffuser passage respectively extend to and from the pinch point to establish convergent flow from the inlet end and divergent flow toward the outlet end for exit outflow at a flow angle less than that of a convergent inflow angle from the inlet end imposed along an initial profile segment. U.S. Patent Number 6,294,849: MAGNETOSTRICTIVE ACTUATOR WITH LOAD COMPENSATING OPERATIONAL MODIFICATION. ABSTRACT: A magnetostrictive actuator has an active rod deformed under exposure to magnetic bias of a magnetic field that is modified in accordance with variable external input loading transferred through gearing to rotationally displace a segmented magnetic shell relative to a fixed segmented magnetic shell within which the magnetic field is established. U.S. Patent Number 6,235,541: PATTERNING ANTIBODIES ON A SURFACE. ABSTRACT: Substrates are patterned with antibodies attached thereto at discrete locations from which absorption resistant coating is removed by selectively controlled mechanical scribing contact to avoid chemical removal so as to decrease fabrication costs and increase fabrication speed. U.S. Patent Number 6,170,422: ATTACHMENT OF EQUIPMENT TO COMPOSITE SANDWICH CORE STRUCTURES. ABSTRACT: Equipment is removably connected by a load transfer element and a removable fastener bolt to a core sandwich type of bulkhead through a plug-in insert, adhesively bonded to the bulkhead at interface surfaces within a pocket formed in the bulkhead for reception of such insert. U.S. Patent Number 6,138,724: SHIPBOARD PAINT DISPENSING SYSTEM. ABSTRACT: A storage chamber within a paint dispensing reservoir tank is maintained filled with paint from a refill paint source during recirculation of such paint through a paint cleansing filter within the chamber for supply of filter cleansed paint to a paint dispensing outlet under control of a metering system involving use of a valve controlled air-powered pump and flow metering regulating cylinders. U.S. Patent Number 6,038,995: COMBINED WEDGE-FLAP FOR IMPROVED SHIP POWERING. ABSTRACT: The inventive combination of a stern wedge and a stern flap demonstrates hydrodynamic properties which, for purposes of enhancing the powering performance of a ship, are superior to those of either a solitary stern wedge or a solitary stern flap. For many inventive embodiments the stern wedge portion's lower surface and the stern flap portion's lower surface are slanted at approximately equal angles with respect to the buttock centerline, thereby optimally consolidating the stern portion's lower surface and the flap portion's lower surface so as to effectively create an overall hydrodynamic lower surface which is slanted approximately at one and the same angle. U.S. Patent Number 6,208,268: VEHICLE PRESENCE, SPEED AND LENGTH DETECTING SYSTEM AND ROADWAY INSTALLED DETECTOR THEREFOR. ABSTRACT: An improved detector is provided for installation in a roadway surface. The detector finds utility in a highway vehicle detection system for determining vehicle presence, vehicle speed and vehicle length. First and second matched induction coil magnetic sensors are maintained at or near the roadway surface. Each of the sensors has a longitudinal axis aligned normal to the roadway surface. The first and second sensors are separated from one another by a known distance in a direction substantially aligned with a direction of traffic flow. Each of the sensors generate a differential magnetic field signature with respect to time to indicate a passing vehicle's leading and trailing edge magnetic signatures. Vehicle speed is determined by a time-distance relationship using the leading and trailing edge magnetic signatures and the known distance. Vehicle length is determined by a time-speed relationship using the leading and trailing edge magnetic signatures and the determined vehicle speed. A triaxial magnetometer maintained at a location in close proximity to the first and second sensors measures a DC magnetic field. The DC magnetic field has vertical and horizontal magnetic field components with the horizontal components including a component substantially aligned with the direction of traffic flow and a component substantially perpendicular to the direction of traffic flow. The vertical and horizontal components caused by the passing vehicle are used to determine vehicle presence. An ELF communications system may be incorporated with the detector to link roadside and vehicle transmitted received information.

ADDRESSES: Requests for copies of the patents cited should be directed to: Naval Surface Warfare Center Carderock Division, Code 0117, 9500 MacArthur Boulevard, West Bethesda, MD 20817-5700, and must include the patent number.

FOR FURTHER INFORMATION CONTACT: Mr. Dick Bloomquist, Director, Technology Transfer Office, Naval Surface Warfare Center Carderock Division, Code 0117, 9500 MacArthur Boulevard, West Bethesda, MD 20817-5700, telephone (301) 227-4299.

(Authority: 35 U.S.C. 207, 37 CFR Part 404)

Dated: October 17, 2002.
R.E. Vincent II,
Lieutenant Commander, Judge Advocate General's Corps, U.S. Navy, Federal Register Liaison Officer.

[FR Doc. 02-26907 Filed 10-22-02; 8:45 am]

BILLING CODE 3810-FF-P